OFFICE OF PERSONNEL MANAGEMENT

5 CFR Part 532

RIN 3206-AN48

Prevailing Rate Systems; Redefinition of Certain Nonappropriated Fund; Federal Wage System Wage Areas

AGENCY: U.S. Office of Personnel Management.

ACTION: Correcting amendment.

SUMMARY: The U.S. Office of Personnel Management (OPM) published a final rule in the Federal Register on May 31, 2017 (82 FR 24825), amending the geographic boundaries of several nonappropriated fund (NAF) Federal Wage System (FWS) wage areas. The final rule incorrectly listed Lane County, Oregon, in the Pierce, Washington, NAF FWS wage area under the State of Washington instead of under the State of Oregon. This document corrects this error.

DATES: Effective August 31, 2017.

FOR FURTHER INFORMATION CONTACT: Madeline Gonzalez, by telephone at (202) 606-2838 or by email at pay-leave-policy@opm.gov.

SUPPLEMENTARY INFORMATION: In a final rule published in the Federal Register on May 31, 2017 (82 FR 24825), OPM incorrectly listed Lane County, Oregon, in the Pierce, Washington, NAF FWS wage area under the State of Washington instead of under the State of Oregon. This document corrects the error and does not affect the pay of any FWS employees.

List of Subjects in 5 CFR Part 532

Administrative practice and procedure, Freedom of information, Government employees, Reporting and recordkeeping requirements, Wages.

U.S. Office of Personnel Management.
Brenda L. Roberts,
Deputy Associate Director for Pay and Leave.

Accordingly, OPM amends 5 CFR part 532 as follows:

PART 532—PREVAILING RATE SYSTEMS

1. The authority citation for part 532 continues to read as follows:

Authority: 5 U.S.C. 5343, 5346; § 532.707 also issued under 5 U.S.C. 552.

2. Appendix D to Subpart B is amended by revising the wage area listing for the Pierce, WA, wage area to read as follows:

Appendix D to Subpart B of Part 532—Nonappropriated Fund Wage and Survey Areas

* * * * *
WASHINGTON
* * * * *
Pierce
Survey Area
Washington:
Pierce
Area of Application. Survey area plus:
Oregon:
Clatsop
Coos
Douglas
Lane
Multnomah
Tillamook
Washington:
Clark
Grays Harbor
* * * * *

[FR Doc. 2017-18514 Filed 8-30-17; 8:45 am]

BILLING CODE 6325-39-P